DEPARTMENT OF THE INTERIOR

Bureau of Land Management

[LLCA9300000.LVFL58740000.LXSS007B 0000; CACA 49822, 49823, 49824, 49825]

Notice of Realty Action; Proposed Sale of Public Land, California

AGENCY: Bureau of Land Management.

ACTION: Notice of realty action.

SUMMARY: Four parcels of public land totaling 314.54 acres in Tehama County, California, are being considered for sale under the provisions of the Federal Land Policy Management Act of 1976 (FLPMA), at no less than the appraised fair market value.

DATES: In order to ensure consideration in the environmental analysis of the proposed sale, comments must be received by January 14, 2009.

ADDRESSES: Address all comments concerning this Notice to Field Manager, Bureau of Land Management (BLM), Redding Field Office, 355 Hemsted Drive, Redding, CA 96002.

FOR FURTHER INFORMATION CONTACT: Susie Rodriguez, Realty Specialist, at the above address or phone (530) 224-2142.

SUPPLEMENTARY INFORMATION: The following-described public land in Tehama County, California, is being considered for sale under the authority of Section 203 of the Federal Land Policy and Management Act of 1976, (90 Stat. 2750, 43 U.S.C. 1713):

Mount Diablo Meridian

CACA 49822 M.D.M, T. 27 N., R. 2 W., sec. 4, S½SW¼

CACA 49823 M.D.M, T. 27 N., R. 2 W., sec. 4, SE¼SE¼

CACA 49824 M.D.M, T. 27 N., R. 2 W., sec. 8, lot 1, N½NE¼

CACA 49825 M.D.M, T. 27 N., R. 2 W., sec. 8, lots 3, 4, 5

The area described contains 314.54 acres in Tehama County. (APN 049-040-05, 06, 12, 17, and 20)

The 1993 BLM Redding Resource Management Plan, as amended, identifies these parcels of public land as suitable for disposal. Conveyance of the identified public land will be subject to valid existing rights and encumbrances of record, including but not limited to, rights-of-way for roads and public utilities. Conveyance of any mineral interests pursuant to Section 209 of FLPMA will be analyzed during processing of the proposed sale.

On December 15, 2008, the above-described land will be segregated from appropriation under the public land laws, including the mining laws, except the sale provisions of FLPMA. The subject lands were also segregated for exchange under CACA 44848 FD and CACA 46843 F1, under provisions of the exchange regulations found at 43 CFR 2201.1-1. The exchange segregation is hereby terminated for the lands described in this Notice. Until completion of the sale, the BLM is no longer accepting land use applications affecting the identified public land, except applications for the amendment of previously-filed right-of-way applications or existing authorizations to increase the term of the grants in accordance with 43 CFR 2807.15 and 2886.15. The segregative effect will terminate upon issuance of a patent, publication in the Federal Register of a termination of the segregation, or December 15, 2010, unless extended by the BLM State Director in accordance with 43 CFR 2711.1-2(d) prior to the termination date.

Public Comments

For a period until January 14, 2009, interested parties and the general public may submit in writing any comments concerning the land being considered for sale, including notification of any encumbrances or other claims relating to the identified land, to Field Manager, BLM Redding Field Office, at the above address. In order to ensure consideration in the environmental analysis of the proposed sale, comments must be in writing and postmarked or delivered within 30 days of the initial date of publication of this Notice. Comments transmitted via e-mail will not be accepted. Comments, including names and street addresses of respondents, will be available for public review at the BLM Redding Field Office during regular business hours, except holidays. Individual respondents may request confidentiality. Before including your address, phone number, e-mail address, or other personal identifying information in your comment, be advised that your entire comment—including your personal identifying information—may be made publicly available at any time. While you can ask us in your comment to withhold from public review your personal identifying information, we cannot guarantee that we will be able to do so. If you wish to have your name or address withheld from public disclosure under the Freedom of Information Act, you must state this prominently at the beginning of your comments. Any determination by the BLM to release or withhold the names and/or addresses of those who comment will be made on a case-by-case basis. Such requests will be honored to the extent allowed by law. The BLM will make available for public review, in their entirety, all comments submitted by businesses or organizations, including comments by individuals in their capacity as an official or representative of a business or organization.

Authority: 43 CFR 2711.1-2.

Dated: December 1, 2008.
Steven W. Anderson,
Redding Field Manager.

[FR Doc. E8-29588 Filed 12-12-08; 8:45 am]

BILLING CODE 4310-40-P